DEPARTMENT OF HEALTH AND HUMAN SERVICES

Guidelines for Ensuring and Maximizing the Quality, Objectivity, Utility and Integrity of Information Disseminated by HHS Agencies

AGENCY: Department of Health and Human Services.

ACTION: Notice.

SUMMARY: This notice announces the availability of the U.S. Department of Health and Human Services Guidelines for Ensuring the Quality of Information Disseminated to the Public. The HHS Information Quality Guidelines will be posted on the HHS website on or about October 1, 2002 and will go into effect on that date. Developed pursuant to the government-wide OMB Guidelines for Information Quality published on January 3, 2002, the HHS Guidelines will be available on the following HHS Web site: http://www.hhs.gov/infoquality.

The Guidelines include mechanisms enabling interested parties to request correction of information disseminated to the public by HHS agencies.

DATES: The HHS Guidelines will be available on the HHS website on or about October 1, 2002 and will go into effect on that date.

FOR FURTHER INFORMATION CONTACT: James Scanlon, Division of Data Policy, Office of the Assistant Secretary for Planning and Evaluation, U.S. DHHS, Telephone (202) 690-7100.

SUPPLEMENTARY INFORMATION: On January 3, 2002, OMB issued final guidelines to federal agencies that implement section 515 of the Treasury and General government Appropriations Act for Fiscal Year 2001 (Pub. L. 106-554). Section 515 directs OMB to issue government-wide guidelines that provide policy and procedural guidance to federal agencies for ensuring and maximizing the quality, objectivity, utility and integrity of information (including statistical information) disseminated by federal agencies. The OMB guidelines in turn direct each federal agency to issue its own guidelines to implement the OMB Guidelines and ensure the quality, objectivity, utility and integrity of the information that the agency disseminates to the public, including administrative mechanisms allowing affected persons to seek and obtain, where appropriate, correction of information disseminated by the agency that does not comply with the guidelines.

On May 1, 2002, HHS posted draft guidelines for a sixty day public comment period. The final guidelines will be posted on the HHS Web site on or about October 1, 2002.

Dated: September 23, 2002.
William Raub,
Deputy Assistant Secretary for Planning and Evaluation.

[FR Doc. 02-24746 Filed 9-27-02; 8:45 am]

BILLING CODE 4151-05-M